DEPARTMENT OF HOUSING AND URBAN DEVELOPMENT

[Docket No. FR-5313-N-01]

Notice of Availability: Notice of Funding Availability (NOFA) for Fiscal Year (FY) 2009; Neighborhood Stabilization Program Technical Assistance Under the American Recovery and Reinvestment Act of 2009

AGENCY: Office of the Assistant Secretary for Community Planning and Development, HUD.

ACTION: Notice.

SUMMARY: HUD announces the availability on its website of the application information, submission deadlines, funding criteria, and other requirements for the FY2009 Neighborhood Stabilization Program Technical Assistance (NSP-TA) under the American Recovery and Reinvestment Act of 2009 (Pub. L. 111-5, approved February 17, 2009) (the Recovery Act). The Recovery Act authorizes $50 million for HUD's NSP-TA program, the purpose of which is to provide technical assistance to achieve the highest performance and results for HUD's Neighborhood Stabilization Program. The notice providing information regarding the application process, funding criteria and eligibility requirements is available on the HUD Web site at http://www.hud.gov/recovery.

FOR FURTHER INFORMATION CONTACT: Stanley Gimont, Director, Office of Block Grant Assistance, Department of Housing and Urban Development, Room 7286, 451 7th Street, SW., Washington, DC 20410, telephone number (202) 708-3587. Persons with hearing or speech impairments may access this number via TTY by calling the Federal Information Relay Service at (800) 877-8339. FAX inquiries may be sent to Mr. Gimont at (202) 401-2044. (Except for the “800” number, these telephone numbers are not toll-free.)

Dated: April 14, 2009.
Nelson R. Bregón,
General Deputy Assistant Secretary for Community Planning and Development.

[FR Doc. E9-10688 Filed 5-6-09; 8:45 am]

BILLING CODE 4210-67-P